Proclamation 7869 of February 7, 2005

National Consumer Protection Week, 2005

By the President of the United States of America

A Proclamation

This year's National Consumer Protection Week focuses on the impact and problems caused by identity theft and on the steps Government is taking to safeguard personal information. Today, many Americans reveal personal information when making purchases, borrowing money, or opening a bank or credit card account. This information makes it convenient to conduct routine transactions, but consumers must take precautions to protect their names, addresses, phone numbers, Social Security numbers, and account numbers against fraud and theft.

As one of the highest impact financial crimes in our Nation, identity theft can undermine the basic trust on which our economy depends. Millions of Americans have had their identity stolen, costing them and our country's businesses billions of dollars. Identity theft can shake consumers' confidence, destroy a person's financial reputation, and damage lifelong efforts to build and maintain a good credit rating.

We are acting to protect citizens from these crimes and the grief and problems they cause. During the last 2 years, I have signed the Fair and Accurate Credit Transactions Act of 2003, which makes it easier for consumers to detect and protect themselves from fraud, and the Identity Theft Penalty Enhancement Act, which strengthens the penalties for identity theft. The U.S. Postal Inspection Service, the Federal Bureau of Investigation, and the United States Secret Service are working with State and local officials to stop the criminal networks responsible for much of the identity theft in America. The Federal Trade Commission also trains local law enforcement in detecting and investigating identity theft, and they have set up the Identity Theft Data Clearinghouse, which tracks complaints across the country and provides these records to prosecutors seeking to shut down those who steal our citizens' good names.

Consumers can learn to prevent identity theft by visiting the National Consumer Protection Week website, www.consumer.gov/ncpw. Working together, we can reduce this growing problem and protect the financial security of our citizens and our Nation.

NOW, THEREFORE, I, GEORGE W. BUSH, President of the United States of America, by virtue of the authority vested in me by the Constitution and laws of the United States, do hereby proclaim February 6 through February 12, 2005, as National Consumer Protection Week. I call upon government officials, industry leaders, and consumer advocates to provide citizens with information about identity theft and how they can be responsible consumers, and I encourage all citizens to take an active role in protecting their personal information.

IN WITNESS WHEREOF, I have hereunto set my hand this seventh day of February, in the year of our Lord two thousand five, and of the Independence of the United States of America the two hundred and twenty-ninth.

B

[FR Doc. 05-2730

Filed 2-9-05; 8:45 am]

Billing code 3195-01-P